POSTAL SERVICE

Sunshine Act Meetings

TIME AND DATE: March 30, 2022, at 9:00 a.m.

PLACE: Washington, DC.

STATUS: Closed.

MATTERS TO BE CONSIDERED:

Wednesday, March 30, 2022, at 9:00 a.m.

1. Strategic Issues.

2. Financial and Operational Issues.

3. Executive Session.

4. Administrative Items.

General Counsel Certification: The General Counsel of the United States Postal Service has certified that the meeting may be closed under the Government in the Sunshine Act.

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2022-06144 Filed 3-18-22; 4:15 pm]

BILLING CODE 7710-12-P